DEPARTMENT OF TRANSPORTATION

Federal Aviation Administration

Airborne Omega Receiving Equipment, Omega Receiving Equipment Operating Within the Radio Frequency Range of 10.2 to 13.6 Kilohertz, and Airborne Area Navigation Equipment Using OmegafVLF Inputs Authorizations Technical Standard Orders (TSOs)

AGENCY: Federal Aviation Administration (FAA), DOT.

ACTION: Notice of cancellation of all Omega Technical Standard Orders (TSOs) and the revocation of all associated Technical Standard Order Authorizations (TSOAs).

SUMMARY: This notice announces the FAAs intensions to cancel all Omega Technical Standard Orders (TSOs) and revoke all associated Technical Standard Order Authorizations (TSOAs). If you have reason to believe that this proposed action will negatively impact aviation safety, we would like to solicit your comments.

DATES: Comments must be received by June 9, 2008.

ADDRESSES: Send all comments regarding cancelling the Omega TSOs and revoking the associated TSOAs to: Federal Aviation Administration, Aircraft Certification Service, Avionics Systems Branch, Room 815, 800 Independence Ave., SW., Washington, DC, 20591, ATTN. Kevin Bridges, AIR-130. Or deliver comments to: Federal Aviation Administration, Aircraft Certification Service, Room 815, 800 Independence Ave., SW., Washington, DC, 20591.

FOR FURTHER INFORMATION CONTACT: Kevin Bridges, AIR-130, Room 815, Federal Aviation Administration, 800 Independence Avenue SW., Washington DC 20591. Telephone (202) 385-4627, fax (202) 385-4651, or via e-mail at: kevin.bridges@faa.gov.

SUPPLEMENTARY INFORMATION:

Comments Invited

Submit written data, views, or arguments on the proposed cancellations to the above-specified address. Your comments should stipulate “Comments, cancellation of all Omega Technical Standard Orders (TSOs) and the revocation of all associated Technical Standard Order Authorizations (TSOAs).” You may examine all comments received before and after the comment closing date by visiting Room 815, FAA Building, 800 Independence Avenue, SW., Washington, DC, weekdays except Federal holidays, between 8 a.m. and 4 p.m. The Director, Aircraft Certification Service, will consider all comments received on or before the closing date before issuing the final notice of cancellation.

Background

Because the Omega navigation system ceased operation on September 30, 1997, the FAA intends to cancel all Omega Technical Standard Orders (TSOs) and revoke all associated Omega Technical Standard Order Authorizations (TSOAs). Currently, the FAA database contains three TSOs and numerous TSOAs for the design and manufacture of Omega avionics equipment. This announcement serves as notice to all Omega TSOA holders that the FAA intends to cancel all TSOs (including active historical TSOs) and revoke all TSOAs for Omega avionics equipment. The affected TSOs are as follows:

TSO-C94, Airborne Omega Receiving Equipment;

TSO-C94a, Omega Receiving Equipment operating within the Radio Frequency Range of 10.2 to 13.6 Kilohertz; and

TSO-C 120, Airborne Area Navigation Equipment Using Omega /VLF Inputs.

How to Obtain Copies

Copies are accessible online at http://rgl.faa.gov/. Select “Technical Standard Orders and Index.” Type TSO number in the “Search” box and Select “Go.”

Issued in Washington, DC, on May 1, 2008.
Susan J. M. Cabler,
Assistant Manager, Aircraft Engineering Division, Aircraft Certification Service.

[FR Doc. E8-10187 Filed 5-8-08; 8:45 am]

BILLING CODE 4910-13-M